FEDERAL COMMUNICATIONS COMMISSION

[FR ID 99422]

Deletion of Items From April 5, 2022 Open Meeting

The following items were adopted by the Commission on July 31, 2022 and August 1, 2022, respectively, and deleted from the list of items scheduled for consideration at the Friday, August 5, 2022, Open Meeting. These items were previously listed in the Commission's Sunshine Notice on Friday, July 29, 2022.

5 | MEDIA | Title: Restricted Adjudicatory Matter. Summary: The Commission will consider a restricted adjudicatory matter.
6 | ENFORCEMENT | Title: Enforcement Bureau Action. Summary: The Commission will consider an enforcement action.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Dated: August 2, 2022.
Marlene Dortch,
Secretary.

[FR Doc. 2022-17181 Filed 8-9-22; 8:45 am]

BILLING CODE 6712-01-P